DEPARTMENT OF COMMERCE

International Trade Administration

University of California at Santa Barbara; Notice of Decision on Application for Duty-Free Entry of Electron Microscope

This decision is made pursuant to Section 6(c) of the Educational, Scientific, and Cultural Materials Importation Act of 1966 (Pub. L. 89-651, 80 Stat. 897; 15 CFR part 301). Related records can be viewed between 8:30 a.m. and 5 p.m. in Suite 4100W, Franklin Court Building, U.S. Department of Commerce, 1099 14th Street, NW., Washington, DC.

Docket Number: 04-005. Applicant: University of California, Santa Barbara, CA 93106-5050. Instrument: Electron Microscope, Model Tecnai G² Sphera. Manufacturer: FEI Company, The Netherlands. Intended Use: See notice at 69 FR 9301, February 27, 2004. Order Date: December 3, 2002. Comments: None received. Decision: Approved. No instrument of equivalent scientific value to the foreign instrument, for such purposes as the instrument is intended to be used, was being manufactured in the United States at the time the instrument was ordered.

Reasons: The foreign instrument is a conventional transmission electron microscope (CTEM) and is intended for research or scientific educational uses requiring a CTEM. We know of no CTEM, or any other instrument suited to these purposes, which was being manufactured in the United States either at the time of order of the instrument OR at the time of receipt of the application by U.S. Customs and Border Protection.

Gerald A. Zerdy,
Program Manager, Statutory Import Programs Staff.

[FR Doc. 04-10665 Filed 5-10-04; 8:45 am]

BILLING CODE 3510-DS-P